DEPARTMENT OF TRANSPORTATION

Federal Motor Carrier Safety Administration

[Docket ID. FMCSA-2010-0050]

Qualification of Drivers; Exemption Applications; Vision

AGENCY: Federal Motor Carrier Safety Administration (FMCSA), DOT.

ACTION: Notice of applications for exemptions; request for comments.

SUMMARY: FMCSA announces receipt of applications from 19 individuals for exemption from the vision requirement in the Federal Motor Carrier Safety Regulations. If granted, the exemptions would enable these individuals to qualify as drivers of commercial motor vehicles (CMVs) in interstate commerce without meeting the Federal vision standard.

DATES: Comments must be received on or before April 26, 2010.

ADDRESSES: You may submit comments bearing the Federal Docket Management System (FDMS) Docket ID FMCSA-2010-0050 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://www.regulations.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 19 individuals listed in this notice have each requested an exemption from the vision requirement in 49 CFR 391.41(b)(10), which applies to drivers of CMVs in interstate commerce. Accordingly, the Agency will evaluate the qualifications of each applicant to determine whether granting an exemption will achieve the required level of safety mandated by statute.

Qualifications of Applicants

Dean R. Allen

Mr. Allen, age 55, has had optic nerve atrophy in his left eye since birth. The best corrected visual acuity in his right eye is 20/25 and in his left eye, count-finger vision. Following an examination in 2009, his optometrist noted, “It is my medical opinion, that Mr. Dean Allen has sufficient vision to perform the driving tasks required to operate a commercial vehicle.” Mr. Allen reported that he has driven straight trucks for 34 years, accumulating 578,000 miles and tractor-trailer combinations for 25 years, accumulating 275,000 miles. He holds a Class A Commercial Driver's License (CDL) from Oregon. His driving record for the last 3 years shows no crashes and no convictions for moving violations in a CMV.

Donald C. Butler

Mr. Butler, 51, has had cataracts in his left eye since 2005. The best corrected visual acuity in his right eye is 20/20 and in his left eye, 20/400. Following an examination in 2009, his optometrist noted, “It is my opinion that Donald has sufficient vision to perform the driving tasks required to operate a commercial vehicle.” Mr. Butler reported that he has driven straight trucks for 2 years, accumulating 8,000 miles and tractor-trailer combinations for 15 years, accumulating 939,900 miles. He holds a Class A CDL from New Mexico. His driving record for the last 3 years shows no crashes and one conviction for speeding in a CMV. He exceeded the speed limit by 10 miles per hour (mph).

Alan R. Fontaine

Mr. Fontaine, 44, has had amblyopia in his right eye since childhood. The best corrected visual acuity in his right eye is 20/50 and in his left eye, 20/20. Following an examination in 2010, his ophthalmologist noted, “I certify under my medical opinion that Mr. Alan Fontaine has sufficient vision to perform the driving tasks required to operate a commercial vehicle.” Mr. Fontaine reported that he has driven straight trucks for 3½; years, accumulating 42,000 miles. He holds a Class D operator's license from Connecticut. His driving record for the last 3 years shows no crashes and no convictions for moving violations in a CMV.

Malcolm R. Heins

Mr. Heins, 67, has complete loss of vision in his left eye due to a traumatic injury sustained during childhood. The best corrected visual acuity in his right eye is 20/20. Following an examination in 2009, his optometrist noted, “Malcolm has sufficient vision in his right eye to operate a commercial vehicle.” Mr. Heins reported that he has driven straight trucks for 8 years, accumulating 28,000 miles and tractor-trailer combinations for 8 years, accumulating 520,000 miles. He holds a Class A CDL from Wisconsin. His driving record for the last 3 years shows three crashes, for which he was not cited, and no convictions for moving violations in a CMV.

Mark Hill

Mr. Hill, 47, has had retinal and macular detachment in his left eye since birth. The best corrected visual acuity in his right eye is 20/25. Following an examination in 2009, his optometrist noted, “It is my medical opinion that Mark Hill is qualified and has sufficient vision to perform the driving task required to operate a commercial vehicle.” Mr. Hill reported that he has driven straight trucks for 15 years, accumulating 130,500 miles. He holds a Class B CDL from West Virginia. His driving record for the last 3 years shows no crashes and no convictions for moving violations in a CMV.

Herbert C. Hirsch

Mr. Hirsch, 63, has had a prosthetic left eye since childhood. The best corrected visual acuity in his right eye is 20/20. Following an examination in 2009, his ophthalmologist noted, “I certify in my medical opinion, Mr. Herbert Hirsch has full function of his remaining eye and I feel he has sufficient vision to perform the driving tasks required for operating a commercial vehicle.” Mr. Hirsch reported that he has driven straight trucks for 40 years, accumulating 800,000 miles and tractor-trailer combinations for 25 years, accumulating 750,000 miles. He holds a Class A CDL from Missouri. His driving record for the last 3 years shows no crashes and no convictions for moving violations in a CMV.

Michael D. Kilgore

Mr. Kilgore, 37, has had demyelinizing optic neuropathy in his left eye since birth. The best corrected visual acuity in his right eye is 20/15 and in his left eye, 20/600. Following an examination in 2009, his optometrist noted, “In my medical opinion, Michael Kilgore has sufficient vision to operate a commercial vehicle.” Mr. Kilgore reported that he has driven straight trucks for 10 years, accumulating 300,000 miles and tractor-trailer combinations for 5 years, accumulating 300,000 miles. He holds a Class A CDL from Texas. His driving record for the last 3 years shows no crashes and no convictions for moving violations in a CMV.

Joseph J. Kushak

Mr. Kushak, 38, has optic atrophy of the left eye due to trauma sustained in 2002. The best corrected visual acuity in his right eye is 20/20 and in his left eye, light-perception only. Following an examination in 2009, his optometrist noted, “It is my opinion he has sufficient vision and field to operate a commercial vehicle.” Mr. Kushak reported that he has driven straight trucks for 13 years, accumulating 1.3 million miles and tractor-trailer combinations for 5 years, accumulating 500,000 miles. He holds a Class A CDL from Michigan. His driving record for the last 3 years shows no crashes and no convictions for moving violations in a CMV.

Louis C. Lee

Mr. Lee, 47, has had complete loss of vision in his left eye since childhood. The best corrected visual acuity in his right eye is 20/20. Following an examination in 2009, his ophthalmologist noted, “In my medical opinion, Mr. Lee has sufficient vision to perform the driving tasks required for a commercial vehicle.” Mr. Lee reported that he has driven straight trucks for 31 years, accumulating 1.2 million miles. He holds an operator's license from Virginia. His driving record for the last 3 years shows no crashes and no convictions for moving violations in a CMV.

Jason T. Montoya

Mr. Montoya, 34, has had amblyopia in his left eye since birth. The best corrected visual acuity in his right eye is 20/15 and in his left eye, 20/400. Following an examination in 2009, his optometrist noted, “I believe from a vision standpoint, Jason is able to perform the driving tasks required to operate a commercial vehicle.” Mr. Montoya reported that he has driven straight trucks for 14.5 years, accumulating 145,000 miles and tractor-trailer combinations for 14.5 years, accumulating 145,000 miles. He holds a Class A CDL from New Mexico. His driving record for the last 3 years shows no crashes and no convictions for moving violations in a CMV.

Doug L. Norman

Mr. Norman, 52, has had amblyopia in his right eye since childhood. The best corrected visual acuity in his right eye is 20/70 and in his left eye, 20/20. Following an examination in 2010, his optometrist noted, “Patient should have no difficulty performing necessary driving tasks.” Mr. Norman reported that he has driven straight trucks for 12 years, accumulating 180,000 miles, tractor-trailer combinations for 30 years, accumulating 900,000 miles and buses for 8 years, accumulating 80,000 miles. He holds a Class A CDL from North Carolina. His driving record for the last 3 years shows no crashes and no convictions for moving violations in a CMV.

Richard W. Pierce

Mr. Pierce, 62, has had amblyopia in his right eye since childhood. The best corrected visual acuity in his right eye is hand-motion vision and in his left eye, 20/20. Following an examination in 2009, his optometrist noted, “In my medical opinion Mr. Pierce has sufficient central vision in his left eye and sufficient visual fields in each eye to perform the driving tasks required to operate a commercial vehicle.” Mr. Pierce reported that he has driven straight trucks for 28 years, accumulating 840,000 miles. He holds a Class A CDL from New Mexico. His driving record for the last 3 years shows no crashes and no convictions for moving violations in a CMV.

Christopher A. Reineck

Mr. Reineck, 34, has had amblyopia in his right eye since birth. The best corrected visual acuity in his right eye is 20/160 and in his left eye, 20/20. Following an examination in 2009, his optometrist noted, “In my opinion, Mr. Reineck does have sufficient vision to perform the driving task required to operate a commercial vehicle.” Mr. Reineck reported that he has driven straight trucks for 5 years, accumulating 156,660 miles. He holds a Class B CDL from Ohio. His driving record for the last 3 years shows no crashes and no convictions for moving violations in a CMV.

Carroll R. Rogers

Mr. Rogers, 61, has had a prosthetic right eye since 1975. The best corrected visual acuity in his left eye is 20/20. Following an examination in 2009, his optometrist noted, “Carroll Rogers has sufficient vision to perform the driving tasks required to operate a commercial vehicle.” Mr. Rogers reported that he has driven tractor-trailer combinations for 35 years, accumulating 2.1 million miles. He holds a Class A CDL from California. His driving record for the last 3 years shows one crash, for which he was not cited, and no convictions for moving violations in a CMV.

Kevin L. Routin

Mr. Routin, 59, has had aphakia and retinal detachment in his left eye since childhood. The best corrected visual acuity in his right eye is 20/15 and in his left eye, 20/300. Following an examination in 2009, his optometrist noted, “It is my professional judgment that Mr. Routin does have sufficient vision to perform the driving tasks required to operate a commercial vehicle.” Mr. Routin reported that he has driven straight trucks for 30 years, accumulating 900,000 miles, tractor-trailer combinations for 25 years, accumulating 3.3 million miles and buses for 10 years, accumulating 30,000 miles. He holds a Class A CDL from Kentucky. His driving record for the last 3 years shows no crashes and no convictions for moving violations in a CMV.

Lane L. Savoie

Mr. Savoie, 57, has a prosthetic left eye due to a traumatic injury sustained in 1995. The best corrected visual acuity in his right eye is 20/20. Following an examination in 2009, his ophthalmologist noted, “We feel Mr. Savoie has sufficient vision to operate or drive a commercial vehicle.” Mr. Savoie reported that he has driven straight trucks for 25 years, accumulating 500,000 miles and tractor-trailer combinations for 25 years, accumulating 2.5 million miles. He holds a Class D chauffeur's license from Louisiana. His driving record for the last 3 years shows no crashes and no convictions for moving violations in a CMV.

Richard G. Schumacher

Mr. Schumacher, 64, has had amblyopia in his right eye since birth. The best corrected visual acuity in his right eye is 20/400 and in his left eye, 20/20. Following an examination in 2009, his ophthalmologist noted, “In my medical opinion, Mr. Schumacher has sufficient vision to perform driving tasks required to operate a commercial vehicle.” Mr. Schumacher reported that he has driven tractor-trailer combinations for 19 years, accumulating 2.2 million miles. He holds a Class A CDL from California. His driving record for the last 3 years shows no crashes and no convictions for moving violations in a CMV.

Scott E. Tussey

Mr. Tussey, 49, has had ocular histoplasmosis in his right eye since 2003. The best corrected visual acuity in his right eye is hand-motion vision and in his left eye, 20/20. Following an examination in 2009, his optometrist noted, “In my opinion he has sufficient vision to perform commercial driving tasks.” Mr. Tussey reported that he has driven straight trucks for 10 years, accumulating 630,000 miles. He holds a Class A CDL from Kentucky. His driving record for the last 3 years shows one crash, for which he was not cited, and no convictions for moving violations in a CMV.

Todd V. Welch

Mr. Welch, 47, has had amblyopia in his right eye since birth. The best corrected visual acuity in his right eye is hand-motion vision and in his left eye, 20/20. Following an examination in 2009, his optometrist noted, “It is my medical opinion that he has sufficient vision to perform driving tasks required to operate a commercial vehicle.” Mr. Welch reported that he has driven straight trucks for 10 years, accumulating 200,000 miles and tractor-trailer combinations for 10 years, accumulating 80,000 miles. He holds a Class A CDL from New York. His driving record for the last 3 years shows no crashes and no convictions for moving violations in a CMV.

Request for Comments

In accordance with 49 U.S.C. 31136(e) and 31315, FMCSA requests public comment from all interested persons on the exemption petitions described in this notice. The Agency will consider all comments received before the close of business April 26, 2010. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: March 22, 2010.
Larry W. Minor,
Associate Administrator for Policy and Program Development.

[FR Doc. 2010-6741 Filed 3-25-10; 8:45 am]

BILLING CODE 4910-EX-P